DEPARTMENT OF TRANSPORTATION

Federal Aviation Administration

[Policy Statement No. ANE-2004-33.4-4]

Policy for Design Approval Procedures for Parts Manufacturer Approval of Critical Engine and Propeller Parts

AGENCY: Federal Aviation Administration, DOT.

ACTION: Notice of issuance; policy statement.

SUMMARY: The Federal Aviation Administration (FAA) announces the availability of policy for Design Approval Procedures for Parts Manufacturer Approval of Critical Engine and Propeller Parts.

DATES: The FAA issued policy statement number ANE-2004-33.4-4 on March 4, 2005.

FOR FURTHER INFORMATION CONTACT: Karen M. Grant, FAA, Engine and Propeller Standards Staff, ANE-110, 12 New England Executive Park, Burlington, MA 01803; e-mail: karen.m.grant@faa.gov; telephone: (781) 238-7119; fax: (781) 238-7199. The policy statement is available on the Internet at the following address: http:.//www.airweb.faa.gov/rgl. If you do not have access to the Internet, you may request a copy of the policy by contacting the individual listed in this section.

SUPPLEMENTARY INFORMATION: The FAA published a notice in the Federal Register on November 8, 2004 (69 FR 64805) to announce the availability of the proposed policy and invite interested parties to comment.

We have filed in the docket all comments we received, as well as a report summarizing each substantive public contact with FAA personnel concerning this policy. The docket is available for public inspection. If you wish to review the docket in person, go to the above address between 9 a.m. and 5 p.m.. Monday through Friday, except Federal holidays.

Background

This policy memorandum provides guidance to Aircraft Certification Offices when establishing their process for evaluating Parts Manufacturer Approval (PMA) applications for critical engine and propeller parts. This policy also requires applicants to complete a safety assessment and to consider a continuous operational safety plan for all engine and propeller PMA proposed parts.

Authority: 49 U.S.C. 106(g), 40113, 44701, 44702, 44704.

Issued in Burlington, Massachusetts, on March 4, 2005.
Jay J. Pardee,
Manager, Engine and Propeller Directorate, Aircraft Certification Service.

[FR Doc. 05-5340 Filed 3-17-05; 8:45 am]

BILLING CODE 4910-13-M